Title 3—

The President

Proclamation 8409 of September 3, 2009

National Wilderness Month, 2009

By the President of the United States of America

A Proclamation

The American wilderness has inspired wonder and imagination for centuries and is an irreplaceable part of our Nation's heritage. Even before the birth of the United States, visitors from near and far were struck by its splendor and purity. The unaltered American landscape stood apart from any other in the world. During the years of westward expansion, the wilderness frontier became synonymous with pioneer values of steadfastness and rugged independence. This month, we celebrate this history and renew our commitment to preserving the American wilderness for future generations.

Forty-five years ago, the United States achieved a landmark success in protecting these magnificent wild spaces. The Congress passed and President Lyndon B. Johnson signed the Wilderness Act, which sought to secure “for the American people of present and future generations the benefits of an enduring resource of wilderness.” The Act has been widely recognized as one of our Nation's most important conservation laws. This law and the National Wilderness Preservation System it established have served as a model for wilderness protection laws in many of our States and in countries around the world.

The vision and structure established in the Wilderness Act continue to receive broad support. This pioneering law created a framework for bringing Federal public lands under additional protection. Over the past 45 years, the Congress has enacted numerous laws extending wilderness protection to vast swaths of public lands. These laws have enjoyed bipartisan support. Ranchers and anglers, small-business owners and conservationists, and Americans of diverse backgrounds have come together to preserve many of our Nation's most cherished public spaces.

My Administration has already demonstrated a commitment to protecting our wilderness heritage. On March 30, 2009, I signed the Omnibus Public Land Management Act of 2009, which established the most recent additions to our Wilderness System. As my Administration continues to prioritize wilderness protection, we will work closely with the Congress, organizations, and private citizens to ensure that all stakeholders can make their voices heard. United by a common purpose of preserving our precious natural spaces and our wilderness heritage, we will ensure that future generations inherit the unique gift of knowing nature's peace.

NOW, THEREFORE, I, BARACK OBAMA, President of the United States of America, by virtue of the authority vested in me by the Constitution and the laws of the United States, do hereby proclaim September 2009 as National Wilderness Month. I call upon all Americans to visit and enjoy our wilderness areas, learn more about our wilderness heritage, and explore what can be done to protect and preserve these precious national treasures.

IN WITNESS WHEREOF, I have hereunto set my hand this third day of September, in the year of our Lord two thousand nine, and of the Independence of the United States of America the two hundred and thirty-fourth.

[FR Doc. E9-21701

Filed 9-4-09; 8:45 am]

Billing code 3195-W9-P